DEPARTMENT OF THE INTERIOR

National Park Service

Notice of Intent To Prepare a Restoration Plan/Programmatic Environmental Impact Statement for Seagrass Restoration Within Biscayne National Park

SUMMARY: Under the provisions of Section 102(2)(C) of the National Environmental Policy Act of 1969, the National Park Service (NPS) is preparing a Seagrass Restoration Plan/Programmatic Environmental Impact Statement (RP/PEIS) to guide all future seagrass restoration activities performed within Biscayne National Park (BISC).

NPS is undertaking restoration planning and impact analysis to identify and assess the potential impacts of performing restoration activities on injured seagrass at vessel grounding sites within BISC. As part of this process NPS will evaluate a range of alternatives for seagrass restoration to determine the potential impacts of those alternatives, including those on land use, water quality, biological resources, geology, cultural resources, human health and safety, and aesthetics. The purpose of the RP/PEIS is to develop a restoration plan that can be used by the NPS to restore seagrass beds. This plan is needed to remedy injuries caused by vessel groundings.

Preliminary alternatives that may be evaluated for seagrass restoration include sediment placement, sediment stabilization, seagrass transplantation, fertilizer use, protective measures, and monitoring.

To facilitate sound planning and consideration of environmental resources, the NPS intends to gather information necessary for the preparation of the seagrass RP/PEIS and to obtain suggestions and information from other agencies and the public on the scope of issues to be addressed in the RP/PEIS.

Vessel groundings and propeller dredging are common occurrences in BISC due to shallow water conditions outside marked channels. When a vessel runs aground on a seagrass bed, its propellers usually cut or uproot seagrasses, leaving a “scar.” It can take years for seagrasses to recover from such damage, and in some areas it may never grow back. When vessels attempt to “power off,” they blow large holes (“blowholes”) in the bottom of the bay displacing large volumes of sediment and seagrass. Displaced sediment often smothers bottom-dwelling organisms.

Seagrass beds are a valuable natural resource because they provide a variety of important services to the marine environment including enhancing sediment stability, decreasing wave energy, providing nursery habitat and feeding grounds for fish and invertebrates, providing feeding grounds for wading and diving birds, providing food and habitat for endangered species, and creating habitat and substrate diversity. BISC seagrass beds are natural resources that the NPS preserves and protects for the education, inspiration, recreation, and enjoyment of present and future generations. The vessel groundings cause injury to those natural resources in BISC. The Park System Resource Protection Act (PSRPA) authorizes the NPS to seek compensation for injuries to park system resources and use the recovered funds to restore, replace, or acquire equivalent resources, and to monitor such resources.

It is the intent of NPS to prepare this seagrass RP/PEIS so that a tiered process can be used to facilitate future restoration actions within BISC. The seagrass RP/PEIS will facilitate subsequent environmental compliance and the development of individual restoration plans.

DATES: NPS will accept comments on the scope of the RP/PEIS within 60 days of the publication of this notice. In addition, NPS is seeking comments on the issues and alternatives to be addressed in the RP/PEIS. Full public participation by Federal, State, and local agencies as well as other concerned organizations and private citizens is invited throughout the preparation process of this document.

The draft Seagrass RP/PEIS is expected to be completed and presented at a public meeting anticipated for November 2006. The location, date, and time of that public meeting will be announced in the local press and on the park Web site (http://www.nps.gov/bisc). They may also be obtained by contacting BISC. The purposes of the public meeting will be to obtain both written and verbal questions and comments on the issues and alternatives to assist NPS in finalizing the Seagrass RP/PEIS.

FOR FURTHER INFORMATION CONTACT: Written comments and information concerning the scope of the seagrass RP/PEIS may be directed to the address below. Requests to be added to the project mailing list should be sent to the same address. Amanda Bourque, Damage Recovery Program Manager, National Park Service, Biscayne National Park, 9700 SW., 328th Street, Homestead, FL 33033, (305) 230-1144, BISC_Superintendent@nps.gov.

SUPPLEMENTARY INFORMATION: If you wish to comment during the scoping process on any issues associated with the plan, you may use any one of several methods. Comments should be received within 60 days of the publication of this notice. You may mail comments to the address listed above. You may also comment on the Internet at the Planning, Environment and Public Comment (PEPC) at http://parkplanning.nps.gov. Please submit Internet comments as a text file avoiding the use of special characters and any form of encryption. Please put in the subject line “Seagrass Restoration Plan/PEIS” and include your name and return address in your Internet message.

It is the practice of the NPS to make all comments, including names and addresses of those who comment, available for public review, after the close of the NEPA process. Anonymous comments will not be considered. NPS will make all submissions from organizations or businesses, and from individuals identifying themselves as representatives or officials of organizations or businesses, available for public inspection in their entirety. However, individuals not representing businesses or organizations may request that the NPS withhold their name and/or address from the record. NPS will honor this request to the extent allowable by law.

If you would like your name and/or address withheld and are using PEPC to comment, but would still like future mailings/information on the project, you may fill in the name and address field, and mark “keep my contact information private.” Or, if you do not want to receive additional information on the project, you may put N/A in the name and address field.

The authority for publishing this notice is 40 CFR 1506.6.

The responsible party for this EIS is the Regional Director for the Southeast Region, Patricia Hooks.

Dated: January 11, 2006.
Victor Knox,
Acting Deputy Regional Director, NPS Southeast Region.

[FR Doc. E6-2310 Filed 2-16-06; 8:45 am]

BILLING CODE 4310-ML-P